DEPARTMENT OF COMMERCE

[I.D. 042503D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Highly Migratory Species Tournament Registration and Reporting.

Form Number(s): None.

OMB Approval Number: 0648-0323.

Type of Request: Regular submission.

Burden Hours: 70.

Number of Respondents: 300.

Average Hours Per Response: 2 minutes for a registration form and 20 minutes for a tournament summary report.

Needs and Uses: NOAA would require that operators of fishing tournaments involving Highly Migratory Species (HMS) provide advance identification of the tournament and then, if selected, provide information after the tournament on the HMS that are caught, whether they were kept or released, the length and weight of the fish, and other information. Completed forms are mailed to NOAA. Most of the data required for post-tournament reporting are already collected in the routine course of tournament operations. The data collected are needed to estimate the total annual catch of these species and to evaluate the impact of tournament fishing in relation to other types of fishing.

Affected Public: Business or other for-profit organizations; not-for-profit institutions.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: April 24, 2003.
Gwellnar Banks,
Management Analyst, Office of the Chief Information Officer.

[FR Doc. 03-10800 Filed 4-30-03; 8:45 am]

BILLING CODE 3510-22-S